SURFACE TRANSPORTATION BOARD

[Docket No. FD 36290]

Union Pacific Railroad Company—Trackage Rights Exemption—Norfolk Southern Railway Company

Union Pacific Railroad Company (UP) has filed a verified notice of exemption under 49 CFR 1180.2(d)(7) to acquire trackage rights from Norfolk Southern Railway Company (NSR). UP states that NSR, pursuant to a written trackage rights agreement, has agreed to grant UP overhead trackage rights over approximately 288 miles of NSR's rail line between the UP/NSR connection at Control Point West MC at Birmingham, Mo., near milepost S266.3 and the UP/NSR connection at Control Point Iles at Springfield, Ill., near milepost DH 416.5.¹

¹ A redacted version of the agreement between UP and NSR was filed with UP's verified notice of exemption. UP simultaneously filed a motion for a protective order to protect the confidential and commercially sensitive information in the unredacted version of the agreement, which UP submitted under seal. That motion will be addressed in a separate decision.

The verified notice states that the proposed transaction will provide UP with an alternative route between Kansas City, Mo., and Springfield, thereby increasing efficiency in operations.

The transaction may be consummated on or after May 9, 2019, the effective date of the exemption (30 days after the verified notice of exemption was filed).

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

If the notice contains false or misleading information, the exemption is void ab initio. Petitions to revoke the exemption under 49 U.S.C. 10502(d) may be filed at any time. The filing of a petition to revoke will not automatically stay the effectiveness of the exemption. Petitions for stay must be filed by May 2, 2019 (at least seven days before the exemption becomes effective).

An original and 10 copies of all pleadings, referring to Docket No. FD 36290, must be filed with the Surface Transportation Board, 395 E Street SW, Washington, DC 20423-0001. In addition, a copy of each pleading must be served on UP's representative, Jeremy M. Berman, General Attorney, 1400 Douglas Street, Stop 1580, Omaha, NE 68179.

According to UP, this action is categorically excluded from environmental review under 49 CFR 1105.6(c), and from historic reporting under 49 CFR 1105.8(b)(3).

Board decisions and notices are available at www.stb.gov.

Decided: April 19, 2019.
By the Board, Allison C. Davis, Acting Director, Office of Proceedings.
Jeffrey Herzig,
Clearance Clerk.

[FR Doc. 2019-08370 Filed 4-24-19; 8:45 am]

BILLING CODE 4915-01-P